DEPARTMENT OF COMMERCE

International Trade Administration

[A-570-983]

Drawn Stainless Steel Sinks From the People's Republic of China: Partial Rescission of Antidumping Duty Administrative Review

AGENCY: Enforcement and Compliance, Department of Commerce

DATES: Effective date: September 30, 2014.

FOR FURTHER INFORMATION CONTACT: Brian Smith or Brandon Custard, Import Administration, International Trade Administration, U.S. Department of Commerce, 14th Street and Constitution Avenue NW., Washington, DC 20230; telephone: (202) 482-1766 or (202) 482-1823, respectively.

SUPPLEMENTARY INFORMATION:

Background

On April 1, 2014, the Department of Commerce (the Department) published in the Federal Register a notice of “Opportunity to Request Administrative Review” of the antidumping duty order on drawn stainless steel sinks from the People's Republic of China (PRC) for the period of review (POR) of October 4, 2012, through March 31, 2014.¹ The Department received a timely request from the petitioner, Elkay Manufacturing Company, to conduct an administrative review of Foshan Success Imp. & Exp. Co., Ltd. (Foshan Success), an exporter of drawn stainless steel sinks from the PRC.² Between April 16 and April 30, 2014, Feidong Import & Export Co., Ltd. (Feidong), Foshan Zhaoshun Trade Co., Ltd. (Zhaoshun), Guangdong Dongyuan Kitchenware Industrial Co., Ltd. (Dongyuan), Guangdong New Shichu Import and Export Company Limited (New Shichu), Guangdong Yingao Kitchen Utensils Co., Ltd. (Yingao), Shunde Native Produce Import and Export Co., Ltd. of Guangdong (Shunde Native Produce), Yuyao Afa Kitchenware Co., Ltd. (Yuyao), Zhongshan Newecan Enterprise Development Corporation Limited (Newecan), Zhongshan Silk Imp. & Exp. Group Co., Ltd. of Guangdong (Zhongshan Silk), and Zhongshan Superte Kitchenware Co., Ltd. (Superte), each filed timely requests for review.³ Additionally, on April 30, 2014, the Department received a timely request from Hajoca Corporation (Hajoca), a United States importer of the subject merchandise, to conduct a review of its entries of the subject merchandise during the POR produced and exported by Yingao.⁴

¹ See Antidumping or Countervailing Duty Order, Finding, or Suspended Investigation; Opportunity to Request Administrative Review, 79 FR 18260 (April 1, 2014).

² See Letter from the petitioner to the Secretary of Commerce, “Drawn Stainless Steel Sinks From The People's Republic Of China: Request For Administrative Review,” dated April 30, 2014.

³ See Letter from Zhaoshun and Superte to the Secretary of Commerce, “Drawn Stainless Steel Sinks from China; Administrative Review Request,” dated April 16, 2014; Letter from Newecan to the Secretary of Commerce, “Drawn Stainless Steel Sinks from China; Administrative Review Request,” dated April 21, 2014; Letter from Yuyao to the Secretary of Commerce, “Drawn Stainless Steel Sinks from the People's Republic of China: Review Request,” dated April 21, 2014; Letter from New Shichu to the Secretary of Commerce, “Drawn Stainless Steel Sinks from the People's Republic of China Request for Administrative Review,” dated April 28, 2014; Letter from Zhongshan Silk to the Secretary of Commerce, “Drawn Stainless Steel Sinks from the People's Republic of China Request for Administrative Review,” dated April 30, 2014; Letter from Shunde Native Produce to the Secretary of Commerce, “Drawn Stainless Steel Sinks from the People's Republic of China Request for Administrative Review,” dated April 30, 2014; Letter from Yingao to the Secretary of Commerce, “Drawn Stainless Steel Sinks from the People's Republic of China Request for Administrative Review,” dated April 30, 2014; Letter from Dongyuan to the Secretary of Commerce, “Drawn Stainless Steel Sinks from the People's Republic of China Request for Administrative Review,” dated April 30, 2014; and Letter from Feidong to the Secretary of Commerce, “Administrative Review Request Concerning Drawn Stainless Steel Sinks from China,” dated April 28, 2014.

⁴ See Letter from Hajoca to the Secretary of Commerce, “Drawn Stainless Steel Sinks from the People's Republic of China: Hajoca Corporation's Request For Review,” dated April 30, 2014.

On May 29, 2014, the Department published in the Federal Register a notice of initiation of an administrative review of the antidumping duty order on drawn stainless steel sinks from the PRC with respect to the above-named companies.⁵

⁵ See Initiation of Antidumping and Countervailing Duty Administrative Reviews, 79 FR 30809 (May 29, 2014). (Notice of Initiation)

On August 27, 2014, the petitioner timely withdrew its request for review of Foshan Success.⁶

⁶ See Letter from the petitioner to the Secretary of Commerce, “Drawn Stainless Steel Sinks From The People's Republic Of China: Withdrawal Of Request For Administrative Review,” dated August 27, 2014.

Partial Rescission of Review

Pursuant to 19 CFR 351.213(d)(1), the Department will rescind an administrative review, in whole or in part, if a party who requested the review withdraws the request within 90 days of the date of publication of notice of initiation of the requested review. We received the petitioner's withdrawal request within the 90-day deadline. Therefore, in response to the withdrawal request and pursuant to 19 CFR 351.213(d)(1), we are rescinding this administrative review with regard to Foshan Success. The instant review will continue with respect to Dongyuan, Feidong, Newecan, New Shichu, Shunde Native Produce, Superte, Yingao, Yuyao, Zhaoshun, and Zhongshan Silk.⁷

⁷ On August 27 and August 28, 2014, Zhongshan Silk submitted withdrawals of its request for review through the Department's electronic filing system IA ACCESS. The filings, however, were rejected because they were submitted under an incorrect case number and segment date/POR, respectively. Zhongshan Silk was notified of the rejections and advised to refile its review request withdrawal, but, as of the date of this notice, has not done so. See Memorandum to the File, “Zhongshan Silk Imp. & Exp. Group Co., Ltd. of Guangdong's Submission of Withdrawal of Request for Administrative Review,” dated September 10, 2014.

Assessment

The Department will instruct U.S. Customs and Border Protection (CBP) to assess antidumping duties on all appropriate entries. For the company for which this review is rescinded, antidumping duties shall be assessed at rates equal to the cash deposit of estimated antidumping duties required at the time of entry, or withdrawal from warehouse, for consumption, in accordance with 19 CFR 351.212(c)(1)(i). As the company for which this review is rescinded is also subject to an ongoing new shipper review of the antidumping duty order on drawn stainless steel sinks from the PRC covering the period October 4, 2012, through October 14, 2013, the Department's assessment instructions as a result of this rescission will only cover the period October 15, 2013, through March 31, 2014. The Department intends to issue appropriate assessment instructions directly to CBP 15 days after the date of publication of this notice in the Federal Register.

Notification to Importers

This notice serves as the only reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

This notice is issued and published in accordance with sections 751 and 777(i)(l) of the Tariff Act of 1930, as amended, and 19 CFR 351.213(d)(4).

Dated: September 24, 2014.
Christian Marsh,
Deputy Assistant Secretary for Antidumping and Countervailing Duty Operations.

[FR Doc. 2014-23281 Filed 9-29-14; 8:45 am]

BILLING CODE 3510-DS-P